DEPARTMENT OF HEALTH AND HUMAN SERVICES

Administration for Community Living

Agency Information Collection Activities; Proposed Collection; Comment Request; State Health Insurance Assistance Program Annual Sub-Recipients Report; OMB #0985-New

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the proposed information collection requirements related to the State Health Insurance Assistance Program Annual Sub-Recipients Report.

DATES: Submit written comments on the collection of information by November 23, 2020.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Margaret Flowers, Administration for Community Living, Washington, DC 20201, 202-795-7315, Margaret.Flowers@acl.hhs.gov.

SUPPLEMENTARY INFORMATION: In compliance with 44 U.S.C. 3507, ACL has submitted the following proposed collection of information to OMB for review and clearance. The Administration for Community Living (ACL) is requesting approval for a revised data collection associated with the State Health Insurance Assistance Program Annual Sub-Recipients Report. The purpose of this data collection is to collect sub-award data from grantees, including agency name, address, and annual federal funds received. Congress requires this data collection for program monitoring for the State Health Insurance Assistance Program (SHIP) under the Bipartisan Budget Act of 2018, SEC. 50207(b). This data collection allows the Administration for Community Living (ACL) and the Center for Innovation and Partnership (CIP) to communicate with Congress and the public on the SHIP network of agencies. This is a new data collection requiring State SHIP grantees to provide the amount of federal funds provided annually to each sub-contractor and sub-grantee that are delivering SHIP services. The data collected will be will be electronically posted on the ACL website to educate the network on who the SHIP state sub-recipients are and how much money they are receiving. SHIP grantees are located in each of the 50 states, the District of Columbia, Puerto Rico, Guam and the U.S. Virgin Islands. The respondents for this data collection are grantees who meet with Medicare beneficiaries and older adults' in-group settings and in one-on-one sessions to educate them on Medicare.

Comments in Response to the 60-Day Federal Register Notice

A notice published in the Federal Register on July 19, 2020 in FR 85 No. 148 pages 46123-46124. There were no public comments received during the 60-day FRN comment period.

To review the proposed data collection please visit the ACL website at https://www.acl.gov/about-acl/public-input.

Estimated Program Burden

ACL estimates the burden associated with this collection of information as follows:

Respondent/data collection activity | Number of respondents | Responses per respondent | Hours per response | Annual burden hours
| 54 | 1 | 1 | 54
Total | 54 | 1 | 1 | 54

Dated: October 15, 2020.
Mary Lazare,
Principal Deputy Administrator.

[FR Doc. 2020-23468 Filed 10-22-20; 8:45 am]

BILLING CODE 4154-01-P